DEPARTMENT OF COMMERCE

National Oceanic and Atmospheric Administration

[I.D. 011503A]

Marine Mammals and Endangered Species; File No 369-1440-01 and 1409

AGENCY: National Marine Fisheries Service (NMFS), National Oceanic and Atmospheric Administration (NOAA), Commerce.

ACTION: Receipt of application for amendment and receipt of application for permit.

SUMMARY: Notice is hereby given that:

Dr. Bruce R. Mate, Oregon State University, has requested an amendment to scientific research Permit No. 369-1440-01; and

Karen G. Holloway-Adkins, Executive Director of East Coast Biologists, Inc., Indialantic, FL 32903, has applied for a scientific research permit.

DATES: Written or telefaxed comments must be received on or before February 27, 2003.

ADDRESSES: The amendment request, application and related documents are available for review upon written request or by appointment in the following office(s):

Permits, Conservation and Education Division, Office of Protected Resources, NMFS, 1315 East-West Highway, Room 13705, Silver Spring, MD 20910; phone (301)713-2289; fax (301)713-0376;

(Permit 369-1440) - Assistant Regional Administrator for Protected Resources, Northeast Region, NMFS, One Blackburn Drive, Gloucester, MA 01930-2298; phone (978)281-9346; fax (978)281-9371; and

(Permit 369-1440 and File No. 1409) - Assistant Regional Administrator for Protected Resources, Southeast Region, NMFS, 9721 Executive Center Drive North, St. Petersburg, FL 33702-2432; phone (727)570-5312; fax (727)570-5517.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Ruth Johnson, Carrie Hubard or Amy Sloan (301)713-2289.

SUPPLEMENTARY INFORMATION: The subject amendment to Permit No. 369-1440-01, issued on September 18, 1998 (63 FR 52686) is requested under the authority of the Marine Mammal Protection Act of 1972, as amended (16 U.S.C. 1361 et seq.), the Regulations Governing the Taking and Importing of Marine Mammals (50 CFR part 216), the Endangered Species Act of 1973, as amended (16 U.S.C. 1531 et seq.) and the regulations governing the taking, importing, and exporting of endangered and threatened species (50 CFR 222-226).

Permit No. 369-1440-01 (Dr. Mate) authorizes the permit holder to: (1) approach to tag/biopsy sample, photograph and evaluate tag attachment on seven species of large whales; (2) opportunistically photograph an unlimited number of cetaceans and pinnipeds; (3) conduct research in the North Pacific, North Atlantic and International waters thereof; and (4) import/export samples for genetic analysis. The permit holder now requests authorization to conduct tagging/biopsy sampling on up to 24 fin whales (Baleanoptera physalus) in the Mediterranean Sea.

Ms. Holloway-Adkins (File No. 1409) requests a permit to take 100 green sea turtles (Chelonia mydas) and 10 loggerhead sea turtles (Caretta caretta) annually for scientific research. Turtles will be captured, handled, measured, weighed, flipper and PIT tagged, and lavaged. The research will characterize the turtle aggregations using the nearshore reefs in central Brevard County as developmental habitat, their size class and foraging habitats and movements.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the amendment request to the Marine Mammal Commission and its Committee of Scientific Advisors.

Dated:January 21, 2003.
Stephen L. Leathery,
Chief, Permits, Conservation and Education Division, Office of Protected Resources, National Marine Fisheries Service.

[FR Doc. 03-1907 Filed 1-27-03; 8:45 am]

BILLING CODE 3510-22-S